DEPARTMENT OF JUSTICE

Drug Enforcement Administration

[Docket No. DEA-875]

Importer of Controlled Substances Application: Globyz Pharma, LLC; Correction

AGENCY: Drug Enforcement Administration, Justice.

ACTION: Notice of application; correction.

SUMMARY: The Drug Enforcement Administration (DEA) published a document in the Federal Register on August 12, 2021, concerning a notice of application. The document indicated the approved drug code (1205—Lisdexamfetamine) as a schedule I. The correct drug schedule should read schedule II.

SUPPLEMENTARY INFORMATION:

Correction

In the Federal Register of August 12, 2021, in FR Doc. 2021-17181 (86 FR 44405), on page 44406, in the first column, in the controlled substance table, correct the drug schedule to schedule II.

Brian S. Besser,
Acting Assistant Administrator.

[FR Doc. 2022-00852 Filed 1-21-22; 8:45 am]

BILLING CODE P